DEPARTMENT OF JUSTICE

Antitrust Division

Notice Pursuant to the National Cooperative Research and Production Act of 1993—Naval Surface Technology & Innovation Consortium

Notice is hereby given that, on July 7, 2020, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Adaptive Intelligence (AI) Corporation, Hillsboro, OR; Applied Research Institute, Inc. d/b/a Indiana Innovation Institute, Indianapolis, IN; Assurity Group, LLC, Tampa, FL; Ayon Cybersecurity, Inc. dba VDC, Cocoa, FL; BAE Systems Land & Armaments L.P., Minneapolis, MN; BML Tool & Mfg. Corp., Monroe, CT; CineMassive Displays, LLC. dba CineMassive, Atlanta, GA; COLSA Corporation, Huntsville, AL; Commonwealth Computer Research, Inc., Charlottesville, VA; Creative Microsystems Corporation, Waitsfield, VT; Cubic Defense Applications, Inc., San Diego, CA; CUBRC, Inc., Buffalo, VA; Curtiss-Wright Defense Solutions, Ashburn, VA; DCS Corporation, Alexandria, VA; DroneShield LLC, Warrenton, VA; DRS Power Technology, Inc., Fitchburg, MA; Engin LLC, Charleston, SC; Equinox Corporation, New York, NY; Excella, Incorporated, Arlington, VA; Firefly Photonics, Coralville, IA; Geodesicx, Inc., Chesapeake, VA; Global Circuit Innovations, Colorado Springs, CO; Harkind Dynamics, LLC, Denver, CO; I-Assure, LLC, Mandeville, LA; KNC Strategic Services, Oceanside, CA; Kratos Space & Missile Defense Systems, Inc., Glen Burnie, MD; L3 Harris-CSW (Communication Systems West), Salt Lake City, UT; Maritime Arresting Technologies LLC, Tarpon Springs, FL; MicroHealth LLC, Vienna, VA; Mimyr, LLC., Torrance, CA; National Instruments Corporation, Austin, TX; On-Point Defense Technologies, LLC, Fort Walton Beach, FL; QorTek, Inc., Linden, PA; Radiant Logic Inc., Novato, CA; Rafael Systems Global Sustainment (RSGS), Bethesda, MD; Redhorse Corp, San Diego, CA; Rockwell Collins, Cedar Rapids, IA; Saab Defense and Security USA LLC, East Syraucse, NY; Sierra Nevada Corporation, Sparks, NV; Silicon Forest Electronics, Vancouver, WA; Systems and Proposal Engineering Company dba SPEC Innovations, Manassas, VA; Tableau Software, LLC, Seattle, WA; Tech Wizards Inc., Newburg, MD; Technovative Applications, Brea, CA; The University of Central Florida Board of Trustees (UCF), Orlando, FL; TimkenSteel Corporation, Canton, OH; Tkelvin Corp, Henderson, NV; TLC Solutions, Inc., Saint Augustine, FL; Tomahawk Robotics, Inc., Melbourne, FL; Victory Solutions, Inc., Huntsville, AL, have been added as parties to this venture and the members of the National Armaments Consortium (NAC), whose last filing can be found at (85 FR 26712).

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on April 7, 2020. A notice was published in the Federal Register pursuant to Section 6(b) of the Act on May 5, 2020 (85 FR 26712).

Suzanne Morris,
Chief, Premerger and Division Statistics, Antitrust Division.

[FR Doc. 2020-16635 Filed 7-30-20; 8:45 am]

BILLING CODE 4410-11-P